DEPARTMENT OF TRANSPORTATION

Federal Aviation Administration

14 CFR Part 39

[Docket No. FAA-2013-0306; Directorate Identifier 2013-NM-049-AD; Amendment 39-17417; AD 2013-07-13]

RIN 2120-AA64

Airworthiness Directives; Dassault Aviation Airplanes

AGENCY: Federal Aviation Administration (FAA), Department of Transportation (DOT).

ACTION: Final rule; request for comments.

SUMMARY: We are adopting a new airworthiness directive (AD) for all Dassault Aviation Model FALCON 7X airplanes. This AD requires revising the aircraft flight manual (AFM); performing operational tests of the oxygen mask oxygen assembly; and replacing affected stowage boxes, which terminates the AFM revision and operational tests. This AD was prompted by failure of the flight crew oxygen supply due to a potentially defective flight crew mask oxygen assembly. We are issuing this AD to prevent failure to supply oxygen upon demand to the flight crew in flight in “100%” and “Emergency” modes, which, in an emergency, may result in incapacitation of the flight crew.

DATES: This AD becomes effective May 6, 2013.

The Director of the Federal Register approved the incorporation by reference of a certain publication listed in the AD as of May 6, 2013.

We must receive comments on this AD by June 3, 2013.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone 425-227-1137; fax 425-227-1149.

SUPPLEMENTARY INFORMATION:

Discussion

The European Aviation Safety Agency (EASA), which is the Technical Agent for the Member States of the European Community, has issued emergency EASA Airworthiness Directive 2013-0059-E, dated March 8, 2013 (referred to after this as the Mandatory Continuing Airworthiness Information, or “the MCAI”), to correct an unsafe condition for the specified products. The MCAI states:

During an aeroplane delivery flight test, the flight crew oxygen supply failed. The technical investigations carried out by the flight crew oxygen mask and stowage box manufacturer identified potentially defective flight crew mask oxygen assembly part number (P/N) MSE30-005-3-8 including stowage box P/N CSD 30-005-3-8.

This condition, if not detected and corrected, may cause failure to supply oxygen upon demand to the flight crew in flight in “100%” and “Emergency” modes which, in case of an emergency, may result in incapacitation of the flight crew.

To address this potential unsafe condition, Dassault Aviation (DA) issued Service Bulletin (SB) F7X-241, containing instructions to identify and replace the affected flight crew oxygen masks and stowage boxes.

For the reasons described above, this [EASA] AD requires [revision of the aircraft flight manual and] accomplishment of operational tests of each flight crew oxygen mask and replacement of the affected stowage boxes with serviceable parts. Replacement constitutes terminating action for the [AFM revision and] repetitive operational tests.

You may obtain further information by examining the MCAI in the AD docket.

Relevant Service Information

Dassault Aviation has issued Mandatory Service Bulletin 7X-241, dated March 7, 2013. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Explanation of Compliance Times

The MCAI requires revising the AFM before further flight. This AD, however, provides a compliance time of 14 days, which will provide an adequate level of safety without unnecessarily grounding airplanes.

Replacing affected oxygen mask stowage boxes terminates the requirement to revise the AFM. The MCAI requires replacing the stowage boxes within a specified time after the effective date. This AD, however, requires compliance within the specified time after the AFM revision to avoid potentially conflicting compliance times that could require operators to replace the stowage box before revising the AFM.

FAA's Determination of the Effective Date

An unsafe condition exists that requires the immediate adoption of this AD. The FAA has found that the risk to the flying public justifies waiving notice and comment prior to adoption of this rule because failure to supply oxygen upon demand to the flight crew in flight in “100%” and “Emergency” modes in an emergency may result in incapacitation of the flight crew. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2013-0306; Directorate Identifier 2013-NM-049-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 9 products of U.S. registry. We also estimate that it will take about 4 work-hours per product to comply with the basic requirements of this AD. The average labor rate is $85 per work-hour. Required parts will cost about $0 per product. Where the service information lists required parts costs that are covered under warranty, we have assumed that there will be no charge for these parts. As we do not control warranty coverage for affected parties, some parties may incur costs higher than estimated here. Based on these figures, we estimate the cost of this AD to the U.S. operators to be up to $3,060, or $340 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-07-13 Dassault Aviation: Amendment 39-17417. Docket No. FAA-2013-0306; Directorate Identifier 2013-NM-049-AD.

(a) Effective Date

This airworthiness directive (AD) becomes effective May 6, 2013.

(b) Affected ADs

None.

(c) Applicability

This AD applies to Dassault Aviation Model Falcon 7X airplanes, certificated in any category, all serial numbers (S/Ns).

(d) Subject

Air Transport Association (ATA) of America Code 35, Oxygen.

(e) Reason

This AD was prompted by failure of the flight crew oxygen supply due to a potentially defective flight crew mask oxygen assembly. We are issuing this AD to prevent failure to supply oxygen upon demand to the flight crew in flight in “100%” and “Emergency” modes which, in an emergency, may result in incapacitation of the flight crew.

(f) Compliance

You are responsible for having the actions required by this AD performed within the compliance times specified, unless the actions have already been done.

(g) Airplanes Excluded from Certain Requirements

Airplanes equipped with flight crew mask oxygen assembly part number (P/N) MSE30-005-3-8 and a stowage box P/N CSD 30-005-3-8 with S/N 1013 or higher, or serial number below 1013 with the suffix “-A,” are not subject to the requirements of paragraphs (h), (i), and (l) of this AD.

(h) Revision of Aircraft Flight Manual (AFM)

Within 14 days after the effective date of this AD, revise the Normal Procedures and Limitations sections of the Dassault Falcon Aircraft Flight Manual (AFM) to include the statement provided in Figure 1 to paragraph (h) of this AD, and thereafter operate the airplane accordingly. The AFM revision may be done by inserting a copy of this AD into the AFM.

Note 1 to paragraph (h) of this AD: When a statement identical to that in Figure 1 to paragraph (h) of this AD has been included in the Normal Procedures and Limitations sections of the general revisions of the AFM, the general revisions may be inserted into the AFM, and the copy of this AD may be removed from the AFM.

(i) Operational Test

After revising the AFM as required by paragraph (h) of this AD: At the applicable time specified in paragraph (i)(1) or (i)(2) of this AD, do an operational test of the flight crew mask oxygen assembly, using the procedure in the “Quick Donning Oxygen Mask Additional Test” specified in Figure 1 to paragraph (h) of this AD.

(1) For any flight crew mask oxygen assembly that has accumulated less than 50 total flight hours: Do the operational test before each flight.

(2) For any flight crew mask oxygen assembly that has accumulated 50 or more total flight hours: Do the operational test one time, before further flight.

(j) Corrective Actions

If any operational test specified in paragraph (i) of this AD is not successful: Before further flight, replace the affected stowage box with a serviceable stowage box, in accordance with the Accomplishment Instructions of Dassault Mandatory Service Bulletin 7X-241, dated March 7, 2013, except dispatch of the airplane with the third crew oxygen mask inoperative is allowed as specified in the Master Minimum Equipment List (MMEL) Item 35-3.

(k) Definition

For purposes of this AD, a serviceable stowage box has P/N CSD 30-005-3-8 with any S/N 1013 or higher, or any serial number below 1013 with the suffix “-A.”

(l) Terminating Action

Except as required by paragraph (j) of this AD, at the applicable time specified in paragraph (l)(1) or (l)(2) of this AD, replace any non-serviceable stowage box with a serviceable stowage box, in accordance with the Accomplishment Instructions of Dassault Mandatory Service Bulletin 7X-241, dated March 7, 2013. Replacement of all affected stowage boxes terminates the requirements of paragraphs (h) and (i) of this AD, and the AFM revision required by paragraph (h) of this AD may be removed from the AFM.

(1) For a stowage box that has accumulated less than 50 total flight hours as of the effective date of this AD: Replace the stowage box within 8 days after the AFM revision required by paragraph (h) of this AD.

(2) For a stowage box that has accumulated 50 or more total flight hours as of the effective date of this AD: Replace the stowage box within 65 days after the AFM revision required by paragraph (h) of this AD.

(m) Parts Installation Prohibition

As of the effective date of this AD, no person may install a non-serviceable flight crew oxygen mask stowage box any airplane.

(n) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone 425-227-1137; fax 425-227-1149. Information may be emailed to: 9-ANM-116-AMOC-REQUESTS@faa.gov. Before using any approved AMOC, notify your appropriate principal inspector, or lacking a principal inspector, the manager of the local flight standards district office/certificate holding district office. The AMOC approval letter must specifically refer to this AD.

(2) Airworthy Product: For any requirement in this AD to obtain corrective actions from a manufacturer or other source, use these actions if they are FAA approved. Corrective actions are considered FAA approved if they are approved by the State of Design Authority (or their delegated agent). You are required to ensure the product is airworthy before it is returned to service.

(o) Related Information

Refer to Mandatory Continuing Airworthiness Information (MCAI) emergency European Aviation Safety Agency (EASA) Airworthiness Directive 2013-0059-E, dated March 8, 2013; and Dassault Mandatory Service Bulletin 7X-241, dated March 7, 2013; for related information.

(p) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Dassault Mandatory Service Bulletin 7X-241, dated March 7, 2013.

(ii) Reserved.

(3) For service information identified in this AD, contact Dassault Falcon Jet, P.O. Box 2000, South Hackensack, NJ 07606; telephone 201-440-6700; Internet http://www.dassaultfalcon.com.

(4) You may review copies of the service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to http://www.archives.gov/federal-register/cfr/ibr-locations.html.

Issued in Renton, Washington, on April 3, 2013.
Ali Bahrami,
Manager,Transport Airplane Directorate,Aircraft Certification Service.

[FR Doc. 2013-09108 Filed 4-18-13; 8:45 am]

BILLING CODE 4910-13-P